DEPARTMENT OF THE INTERIOR

Bureau of Reclamation

Agua Fria Linear Recharge Project, Maricopa County, Arizona

AGENCY: Bureau of Reclamation, Interior.

ACTION: Notice of intent to prepare an environmental impact statement (EIS) and public scoping meetings.

SUMMARY: Pursuant to the National Environmental Policy Act (NEPA) of 1969, as amended, and the Council on Environmental Quality's Regulations for Implementing the Procedural Provisions of NEPA, the Bureau of Reclamation (Reclamation) plans to prepare an EIS on the Agua Fria Linear Recharge Project. Reclamation is authorized to participate in this project with the Sub-Regional Operating Group (SROG), a partnership formed by the cities of Glendale, Mesa, Phoenix, Scottsdale, and Tempe, pursuant to Section 1608 of Public Law 102-575, Title XVI “Reclamation Wastewater and Groundwater Study and Facilities Act,” passed by Congress in 1992. The Agua Fria Linear Recharge Project consists of transporting reclaimed water from the 91st Avenue Wastewater Treatment Plant (WWTP) located adjacent to the Salt River at 91st Avenue in Phoenix, Arizona, to a 10-mile recharge area along the channel of the Agua Fria River, in central Maricopa County. SROG collectively owns the 91st Avenue WWTP.

As lead Federal agency for this project, Reclamation is initiating public scoping for the EIS and will be conducting scoping meetings pursuant to section 102(2)(C) of NEPA. Two public scoping meetings will be held to receive comments from the general public on the environmental impacts, concerns, and issues that should be addressed in the EIS.

DATES: To ensure consideration in the preparation of the draft EIS, written comments must be received by October 6, 2004.

The public scoping meeting dates are:

(1) September 21, 2004, 6:30 p.m., Avondale, AZ.

(2) September 22, 2004, 4 p.m., Surprise, AZ.

ADDRESSES: Written comments should be sent to Mr. Bruce Ellis, Chief, Environmental Resources Management Division, Bureau of Reclamation, Phoenix Area Office (PXAO-1500), PO Box 81169, Phoenix, AZ 85069-1169; or by faxogram (602) 216-4006.

The public scoping meeting locations are:

(1) Estrella Community College, Community Room, 3000 North Dysart Road, Avondale, AZ.

(2) West Valley Arts Museum, 17420 North Avenue of the Arts, Surprise, AZ.

FOR FURTHER INFORMATION CONTACT: Ms. Sandra Eto, at (602) 216-3857, or at the above address.

SUPPLEMENTARY INFORMATION: Section 1608 of Public Law 102-575, Title XVI, provides Reclamation with the authority to participate in the Agua Fria Linear Recharge Project as a Federal sponsor. SROG is the local sponsor for the project. The SROG partners each share wastewater treatment capacity at the 91st Avenue WWTP in Phoenix, Arizona.

The Agua Fria Linear Recharge Project would transport reclaimed water from the 91st Avenue WWTP to different points within a 10-mile recharge area along the Agua Fria River channel between Bell Road and Indian School Road. An estimated 60,000 acre-feet per year of reclaimed water would be available for recharge in the future. Once released into the Agua Fria River, the quality of the reclaimed water would be improved through natural soil aquifer treatment processes as it is recharged into the groundwater aquifer. Credits accrued from the Agua Fria Linear Recharge Project would be recovered by the SROG cities at a later time within each city's respective water service area.

Currently, SROG and Reclamation are evaluating whether to pipe the reclaimed water directly from the WWTP or after it passes through the Tres Rios wetlands, a joint project of the U.S. Army Corps of Engineers and the City of Phoenix consisting of a series of wetlands that are to be constructed downstream of the WWTP in late 2008. Reclamation and SROG are also studying different pipeline routes to convey the reclaimed water for release into the Agua Fria riverbed. Recharge berms, dikes, and other features within the river channel are being considered as a means of enhancing recharge of this water. Opportunities are also being considered for supporting limited habitat restoration and enhancement activities along the Agua Fria River corridor and recreational/educational facilities within the river corridor, subject to existing and known future planning constraints within the project area. Additional information on the Agua Fria Linear Recharge Project can be found at the following internet site: http://www.phoenix.gov/AGUAFRIA/.

Currently, the following issues and concerns have been identified for consideration in the EIS: Biological and cultural resource impacts, potential bird air strike hazards at nearby airports, air pollution, sediment transport within the Agua Fria River, hydrologic impacts, groundwater quantity and quality, public health and safety, aesthetics, transportation and utilities impacts, construction noise, socioeconomic concerns, and land use impacts.

Written comments received by Reclamation become part of the public record associated with this action. Accordingly, Reclamation makes these comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

If you would like to be placed on the mailing list to receive future information or a copy of the draft EIS when it becomes available, please contact Ms. Sandra Eto (see FOR FURTHER INFORMATION CONTACT, above).

Note: Hearing impaired, visually impaired, and/or mobility impaired persons planning to attend a public scoping meeting may arrange for necessary accommodations by calling Frank Turek, PBS&J, at (602)943-1003 (extension 110), or faxogram (602) 943-1303, no later than September 3, 2004.

Dated: August 2, 2004.
Robert W. Johnson,
Regional Director, Lower Colorado Region.

[FR Doc. 04-18841 Filed 8-17-04; 8:45 am]

BILLING CODE 4310-MN-P